DEPARTMENT OF THE INTERIOR

Fish and Wildlife Service

Notice To Announce the Revision of the Alabama Beach Mouse Recovery Plan

AGENCY: Fish and Wildlife Service, Interior.

ACTION: Notice to announce the revision of the Alabama beach mouse recovery plan; request for information.

SUMMARY: We, the Fish and Wildlife Service, announce our intention to prepare a separate species recovery plan for the Alabama beach mouse (ABM) (Peromyscus polionotus ammobates), which is listed as endangered throughout its range, under the Endangered Species Act of 1973, as amended (Act). A 1987 multi-species recovery plan addressed recovery needs for three subspecies of the old field mouse (Peromyscus polionotus) that inhabit the beaches and dunes of the Gulf coast of Alabama and Florida—the ABM, the Choctawhatchee beach mouse (P. p. allphrys), and the Perdido Key beach mouse (P. p. trissyllepsis). The 1987 recovery plan is being revised to prepare a separate species recovery plan for the ABM. A separate species recovery plan is needed for the ABM in order to incorporate new information related to the range of the species, to update information regarding known habitat, and to update the framework for addressing problems of the species and for prioritizing actions necessary for recovery. The ABM recovery plan will not include recovery information on the Choctawhatchee beach mouse or the Perdido Key beach mouse. Recovery plans for the Choctawhatchee beach mouse and the Perdido Key beach mouse will be updated or revised at a later date.

To ensure a comprehensive revision, we are soliciting information on the ABM's population status and trends, threats, and conservation efforts.

DATES: Information related to this notice must be received by December 2, 2003, to be considered in the initial stages of the revision. However, we will accept information and comments submitted after this date for consideration at later stages in the recovery planning process until further notice.

ADDRESSES: Information should be mailed to the Daphne Ecological Services Field Office, U.S. Fish and Wildlife Service, P.O. Drawer 1190, Daphne, AL 36526. Information may also be sent via fax to 251-441-6222 or through the Internet Web site for the ABM recovery plan at http://daphne.fws.gov.

Comments and materials received will be available for public inspection, by appointment, during normal business hours at the Daphne Field Office at 1208 Main Street, Daphne, Alabama.

FOR FURTHER INFORMATION, CONTACT: Lori McNease at the above mailing address (telephone 251-441-5867, fax 251-441-6222, e-mail alabamabeachmouse@fws.gov).

SUPPLEMENTARY INFORMATION:

Background

The ABM was listed as endangered under the Act on June 6, 1985 (50 FR 23884). Upon listing a species, section 4(f) of the Act requires the preparation and implementation of a recovery plan and revisions to such plans as necessary. Under section 4(f)(1)(B), each plan, at a minimum, must contain—(a) a description of such site-specific management actions as may be necessary to achieve the plan's goal for conservation and survival of the species; (b) objective, measurable criteria that, when met, would result in a determination, in accordance with the provisions of this section, that the species be removed from the list; and (c) estimates of the time required and the cost to carry out those measures needed to achieve the plan's goal and to achieve intermediate steps toward that goal.

In addition, recovery plans must include a concise summary of the current status of the species and its life history, and an assessment of the factors that led to population declines and/or which are impeding recovery. The plan must also include a comprehensive monitoring and evaluation program for gauging the effectiveness of recovery measures and overall progress toward recovery.

In 1987, we issued a multi-species recovery plan for three listed beach mice along the Gulf coast of Alabama and Florida. The plan is being revisited at this time in order to prepare a separate species recovery plan for the ABM. An Alabama Beach Mouse Recovery Team, consisting of governmental and non-governmental organizations as well as species experts and stakeholders, was established to draft this revision.

Since the development of the 1987 plan, significant research has been accomplished and important conservation and recovery activities have been undertaken. As a result, we have a greater knowledge of the species, its status, and distribution. These advances in our understanding of the ABM make a revision of the ABM recovery plan necessary at this time. The revised ABM recovery plan will serve as a basis for future recovery efforts, guide research to ensure that new information will contribute toward the greatest research needs, and enable effective monitoring to allow us to track the status of the ABM and the factors that may affect the species.

A schedule for completing the revised ABM recovery plan will be made available on the internet website for the ABM recovery plan when it is developed by the recovery team (see ADDRESSES). Draft sections of the Work in Progress will also be made available on the internet website to provide interested stakeholders an opportunity to review and provide input on the revised plan during its development. Once all sections of the revised plan have been drafted, we will publish a notice of availability of the draft recovery plan in the Federal Register and will formally solicit public comment on the draft prior to finalizing the plan.

Information Solicited

To ensure that the revised ABM recovery plan is based on the best available data, we are soliciting information on historical and current abundance; historical and current distribution and movements; population status and trends; genetics; current or planned activities that may adversely impact the species; and ongoing efforts to protect the ABM along the Alabama Gulf coast. We request that all data, information, and comments be accompanied by supporting documentation such as maps, bibliographic references, or reprints of pertinent publications.

All submissions must contain the submitter's name and address, as well as any association, institution, or business that the person represents. Our practice is to make comments, including names and home addresses of respondents, available for public review during regular business hours. Respondents may request that we withhold their home address, which we will honor to the extent allowable by law. There also may be circumstances in which we would withhold a respondent's identity, as allowable by law. If you wish for us to withhold your name and/or address, you must state this request prominently at the beginning of your comment. We will not consider anonymous comments. To the extent consistent with applicable law, we will make all submissions from organizations or businesses, and from individuals identifying themselves as representatives of organizations or businesses, available for public inspection in their entirety.

Authority: The authority for this action is section 4(f) of the Endangered Species Act, 16 U.S.C. 1533 (f).

Dated: September 15, 2003.
Sam D. Hamilton,
Regional Director, Southeast Region, Fish and Wildlife Service.

[FR Doc. 03-25087 Filed 10-2-03; 8:45 am]

BILLING CODE 4310-55-P